DEPARTMENT OF DEFENSE

Department of Navy

Notice of Intent To Grant an Exclusive License; Aviation Devices and Electronic Components, L.L.C.

AGENCY: Department of the Navy, DoD.

ACTION: Notice.

SUMMARY: The Department of the Navy hereby gives notice of its intent to grant to Aviation Devices and Electronic Components, L.L.C. located at 1810 Mony Street, Ft. Worth, Texas 76102, a revocable, nonassignable, exclusive license throughout all the contracting states of the European Patent Convention, Japan, India, Mexico, Canada, Brazil, Russian Federation, Australia, Indonesia, Taiwan, Thailand, Israel and South America in all fields of use the Government-Owned inventions described in Patent Cooperation Treaty (PCT) Application No. PCT/US2012/040371: filed June 01, 2012 entitled “Aluminum Alloy Coated Pigments and Corrosion-Resistant Coatings”, Navy Case No. PAX81//PCT Application No. PCT/US2013/046094: filed June 17, 2013 entitled “Oxide Coated Metal Pigments and Film-Forming Compositions”, Navy Case No. PAX115//PCT Application No. PCT/US2013/045190: filed June 13, 2013 entitled “Coated Aluminum Alloy Pigments and Corrosion Resistant Coatings”, Navy Case No. PAX121.

DATES: Anyone wishing to object to the grant of this license must file written objections along with supporting evidence, if any, not later than December 26, 2013.

ADDRESSES: Written objections are to be filed with the Naval Air Warfare Center Aircraft Division, Technology Transfer Office, Attention Michelle Miedzinski, Code 5.0H, 22473 Millstone Road, Building 505, Room 117, Patuxent River, Maryland 20670.

FOR FURTHER INFORMATION CONTACT: Dan Swanson, 406-994-7736, dss@montana.edu, TechLink, 2310 University Way, Building 2-2, Bozeman, MT 59715. TechLink is an authorized Department of Defense Partnership Intermediary.

Authority: 35 U.S.C. 207, 37 CFR Part 404.

Dated: December 4, 2013.
N.A. Hagerty-Ford,
Commander, Office of the Judge Advocate General, U.S. Navy, Federal Register Liaison Officer.

[FR Doc. 2013-29517 Filed 12-10-13; 8:45 am]

BILLING CODE 3810-FF-P